DEPARTMENT OF THE TREASURY

Submission for OMB Review; Comment Request

May 5, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before June 11, 2003 to be assured of consideration.

Internal Revenue Service (IRS)

OMB Number: 1545-0195.

Form Number: IRS Form 5213.

Type of Review: Revision.

Title: Election to Postpone Determination as to Whether the Presumption Applies That an Activity is Engaged in for Profit.

Description: This form is used by individuals, partnerships, estates, trusts, and S corporations to make an election to postpone an IRS determination as to whether an activity is engaged in for profit for 5 years (7 years for breeding, training, showing, or racing horses). The data is used to verify eligibility to make the election.

Respondents: Business or other for-profit, Individuals or households.

Estimated Number of Respondents/Recordkeepers: 10,730.

Estimated Burden Hours Per Respondent/Recordkeeper:

Recordkeeping—6 min.

Learning about the law or the form—10 min.

Preparing the form—9 min.

Copying, assembling, and sending the form to the IRS—20 min.

Frequency of Response: On occasion.

Estimated Total Reporting/Recordkeeping Burden: 8,370 hours.

OMB Number: 1545-0865.

Form Number: IRS Form 8264.

Type of Review: Revision.

Title: Application for Registration of a Tax Shelter.

Description: Organizers of certain tax shelters are required to register them with the IRS using Form 8264. Other persons may have to register the tax shelter if the organizer doesn't. We use the information to give the tax shelter a registration number. Sellers of interests in the tax shelter furnish the number to investors who report the number on their tax returns.

Respondents: Business or other for-profit, Individuals or households.

Estimated Number of Respondents/Recordkeepers: 350.

Estimated Burden Hours Per Respondent/Recordkeeper:

Recordkeeping—33 hr., 14 min.

Learning about the law or the form—3 hr., 34 min.

Preparing, copying, assembling, and sending the form to the IRS—4 hr., 16 min.

Frequency of Response: On occasion.

Estimated Total Reporting/Recordkeeping Burden: 14,382 hours.

Clearance Officer: Glenn Kirkland (202) 622-3428, Internal Revenue Service, Room 6411-03, 1111 Constitution Avenue, NW., Washington, DC 20224.

OMB Reviewer: Joseph F. Lackey, Jr. (202) 395-7316, Office of Management and Budget, Room 10235, New Executive Office Building, Washington, DC 20503.

Lois K. Holland,
Departmental Reports, Management Officer.

[FR Doc. 03-11690 Filed 5-9-03; 8:45 am]

BILLING CODE 4830-01-P